DEPARTMENT OF DEFENSE

Intent To Prepare a Draft Environmental Impact Statement (DEIS) in Conjunction With Proposed Flood Control and Ecosystem Restoration Measures in the Kankakee River Basin in Northeast Illinois and Northwest Indiana

AGENCY: U.S. Army Corps of Engineers, DoD.

ACTION: Notice of intent.

SUMMARY: The project involves proposed construction of flood control measures and ecosystem restoration measures along the Kankakee River, Yellow River, Iroquois River, and major tributaries. Alternatives under consideration include setback levees, sediment traps, wetland restoration, bank stabilization, vegetation buffers, and selective dredging at locations in several counties in northeast Illinois and northwest Indiana.

FOR FURTHER INFORMATION CONTACT: Mr. Keith Ryder, 312/353-6400 ext. 2020; U.S. Army Corps of Engineers, Suite 600, 111 North Canal Street; Chicago, Illinois 60606-7206.

Dated: April 21, 2000.
Peter J. Rowan,
Lieutenant Colonel, U.S. Army, District Engineer.

[FR Doc. 00-11295 Filed 5-4-00; 8:45 am]

BILLING CODE 3710-HN-M